DEPARTMENT OF ENERGY

Notification of the Availability of the “e810” Electronic Database

AGENCY: National Nuclear Security Administration, Department of Energy (DOE).

ACTION: Notice.

SUMMARY: DOE/NNSA is providing notice that “e810,” an electronic database for processing applications, reporting, and requests for determination for nuclear technology exports, is now available for use. The Web site is: e810.energy.gov. This is necessary so that public stakeholders are aware this Web site is now available for their use.

DATES: Effective: May 18, 2017.

FOR FURTHER INFORMATION CONTACT: Ms. Katie Strangis, Policy Advisor, Office of Nonproliferation and Arms Control (NPAC), National Nuclear Security Administration, Department of Energy, 1000 Independence Avenue SW., Washington, DC 20585, Katie.Strangis@nnsa.doe.gov, Telephone 202-586-8623.

SUPPLEMENTARY INFORMATION:

Background

Section 57b.(2) of the Atomic Energy Act of 1954, as amended, is implemented through the DOE/NNSA regulations under Title 10 of the Code of Federal Regulations (CFR) Part 810 (Part 810) governing exports of unclassified nuclear technology and assistance. Applicants seeking specific authorizations to transfer or provide any such technology or assistance must make an application to DOE, and those who are transferring or providing such technology or assistance must provide regular reports to DOE. In response to public comment, DOE/NNSA is pursuing a number of efforts to improve the Part 810 authorization process collectively known as a Process Improvement Plan (PIP) to make the Part 810 authorization process more transparent, orderly, and efficient. One of the main components of the PIP was to develop an electronic application and reporting database (which DOE has called “e810”). e810 was designed to ease the application and reporting burden on industry, streamline the review process for specific authorization applications, and provide greater transparency into the authorization process and timelines. The e810 database is now available for use. The Web site is: e810.energy.gov. Prospective users may register for an account at that site. Use of the e810 site for Part 810 communications is strictly optional; the email and paper communication options listed at 10 CFR 810.4 remain available. However, we encourage its use as continued upgrades to the e810 database will further enhance and streamline the Part 810 authorization process. Early use will allow users to take full advantage of those features as they come on line.

Dated: April 21, 2017.
For the Department of Energy.
Kasia Mendelsohn,
Associate Deputy Administrator, Office of Nonproliferation and Arms Control, National Nuclear Security Administration, Department of Energy.

[FR Doc. 2017-10049 Filed 5-17-17; 8:45 am]

BILLING CODE 6450-01-P